DEPARTMENT OF LABOR

Employment and Training Administration

[TA-W-56,515]

Interstate Iron Works, Whitehouse, NJ; Notice of Termination of Investigation

Pursuant to Section 221 of the Trade Act of 1974, an investigation was initiated on February 7, 2005 in response to a petition filed by the State of New Jersey Trade Act Coordinator on behalf of workers at Interstate Iron Works, Whitehouse, New Jersey.

The Department has been unable to locate company officials of the subject firm or to obtain the information necessary to reach a determination on worker group eligibility. Consequently, further investigation in this case would serve no purpose, and the investigation has been terminated.

Signed in Washington, DC, this 7th day of April, 2005.
Richard Church,
Certifying Officer, Division of Trade Adjustment Assistance.

[FR Doc. E5-2085 Filed 4-29-05; 8:45 am]

BILLING CODE 4510-30-P